Title 3—

The President

Proclamation 10082 of September 19, 2020

National Small Business Week, 2020

By the President of the United States of America

A Proclamation

During National Small Business Week, we celebrate the resolve and ingenuity of American businesses, entrepreneurs, and workers. America's small businesses are at the very core of our Nation's identity and prosperity, and this week we pay tribute to these patriots for their contributions to our Nation's economy and culture.

This year, as we collectively recover from an unprecedented pandemic, my Administration remains intensely focused on helping every American enterprise remain viable, recover, and once again, thrive at historic levels. Our Nation's more than 30 million small businesses, which employ nearly half the private-sector workforce and create two-thirds of all net new jobs, are the key to propelling our economy to the prosperity levels America has enjoyed over the past 3 years. That is why, as part of our extraordinary, whole-of-government economic response to the coronavirus, we have placed the small business sector front and center. We have delivered nearly three quarters of a trillion dollars in timely, economic relief to distressed small business entrepreneurs and their employees throughout the country, including $525 billion in Paycheck Protection Program (PPP) loans, $190 billion in COVID-19 Economic Injury Disaster Loans (EIDL), $20 billion in EIDL Advance grants, and additional healthcare funding.

Additionally, American small businesses have been critical in revitalizing economically distressed areas. That is why my Administration worked with Congress to designate thousands of Opportunity Zones in underserved communities, and as a result, we are creating unprecedented new economic opportunities. We have also made extraordinary strides in the cultivation of entrepreneurship among underrepresented groups, including women, minorities, and veterans. In fact, under my Administration, Latinos are the fastest-growing group of entrepreneurs. These numbers are an important reminder that in the United States anyone who is dedicated and hard-working is capable of achieving their own American Dream.

Across our country, small businesses are essential to their communities, creating jobs and giving back during times of prosperity and challenge. My Administration is committed to investing in small business owners, and therefore advancing solutions that make it easier for them to exceed their goals. During this National Small Business Week, we celebrate the success of our American entrepreneurs who have chartered their own courses to provide jobs and a bright future for millions of American workers.

NOW, THEREFORE, I, DONALD J. TRUMP, President of the United States of America, by virtue of the authority vested in me by the Constitution and the laws of the United States, do hereby proclaim September 20 through September 26, 2020, as National Small Business Week. I call upon all Americans to recognize the critical contributions of America's entrepreneurs and small business owners as they grow our Nation's economy.

IN WITNESS WHEREOF, I have hereunto set my hand this nineteenth day of September, in the year of our Lord two thousand twenty, and of the Independence of the United States of America the two hundred and forty-fifth.

[FR Doc. 2020-21422

Filed 9-24-20; 11:15 am]

Billing code 3295-F0-P